DEPARTMENT OF HEALTH AND HUMAN SERVICES

Substance Abuse and Mental Health Services Administration

Center for Substance Abuse Prevention; Notice of Meeting

Pursuant to Public Law 92-463, notice is hereby given of the meeting of the Substance Abuse and Mental Health Services Administration (SAMHSA) Center for Substance Abuse Prevention Drug Testing Advisory Board (DTAB) on January 26 and 27, 2011.

A portion of the meeting will be open and will include the Federal drug testing updates from the Department of Transportation, the Department of Defense, the Nuclear Regulatory Commission, and the Federal Drug-Free Workplace Programs; updates on the Mandatory Guidelines for Federal Workplace Drug Testing Programs (the Guidelines); review of the topics that the DTAB will be addressing in the future, including alternate matrices, the electronic custody and control form, and the medical review officer certification; a historical perspective of oral fluid as a drug testing matrix; and the current perspective of the oral fluid matrix, including specimen, drug analytes and their cutoffs, methodologies, proficiency testing, best practices experiences, and specimen drug testing data.

The public is invited to attend the open session in person or to listen via teleconference. Due to the limited space, attendance will be on a registration-only basis. Public comments are welcome. To register, to make arrangements to attend, to obtain the teleconference call-in numbers and access codes, to submit written or brief oral comments, or to request special accommodations for persons with disabilities, please register at the SAMHSA Committees' Web site at https://nac.samhsa.gov/Registration/meetingsRegistration.aspx or communicate with DTAB's Program Assistant, Ms. Giselle Hersh (see contact information below).

The Board will also meet to discuss proposed revisions to the Guidelines on January 27 between 1:30 p.m.-5 p.m. EST. This portion of the meeting will be conducted in a closed session as determined by the Administrator, SAMHSA, in accordance with 5 U.S.C. 552b(c)(9)(B) and 5 U.S.C. App. 2, Section 10(d).

Substantive program information, a summary of the meeting, and a roster of DTAB members may be obtained as soon as possible after the meeting, either by accessing the SAMHSA Committee Web site, https://www.nac.samhsa.gov/DTAB/meetings.aspx, or by contacting Dr. Cook. The transcript for the open meeting will also be available on the SAMHSA Committee Web site within three weeks after the meeting.

Committee Name: Substance Abuse and Mental Health Services Administration, Center for Substance Abuse Prevention Drug Testing Advisory Board.

Date/Time/Type: January 26, 2011 from 11 a.m. to 5 p.m. EST: Open; January 27, 2011 from 8:30 a.m. to 12:15 p.m. EST: Open; January 27, 2011 from 1:30 p.m. to 5 p.m. EST: Closed.

Place: Sugarloaf and Seneca Conference Rooms, 1 Choke Cherry Road, Rockville, Maryland 20857.

Contacts: Janine Denis Cook, PhD, Designated Federal Official, SAMHSA Drug Testing Advisory Board, 1 Choke Cherry Road, Room 2-1045, Rockville, Maryland 20857. Telephone: 240-276-2600. Fax: 240-276-2610. E-mail: janine.cook@samhsa.hhs.gov.

Ms. Giselle Hersh, Program Assistant, SAMHSA Drug Testing Advisory Board, 1 Choke Cherry Road, Room 2-1042, Rockville, Maryland 20857. Telephone: 240-276-2600. Fax: 240-276-2610. E-mail: Giselle.Hersh@samhsa.hhs.gov.

Toian Vaughn,
Committee Management Officer, Substance Abuse and Mental Health Services Administration.

[FR Doc. 2010-32858 Filed 12-29-10; 8:45 am]

BILLING CODE 4162-20-P